UNITED STATES INSTITUTE OF PEACE

Notice of Meeting

AGENCY: United States Institute of Peace.

Date/Time: Thursday, January 24, 2013 (9:00 a.m.-3:30 p.m.).

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: January 24, 2013 Board Meeting; Approval of Minutes of the One Hundred Forty-Fifth Meeting (October 24, 2012) of the Board of Directors; Chairman's Report; President's Report; Status Reports on Libya Trip, USIP work on the Rule of Law-Libya, Transition in Iraq, Update on Egypt; Congressional Overview; Strategic Plan; Board Executive Session; Other General Issues.

Contact: Tessie F. Higgs, Executive Office, Telephone: (202) 429-3836.

Dated: January 11, 2013.
Michael Graham,
Senior Vice President for Management, United States Institute of Peace.

[FR Doc. 2013-01017 Filed 1-17-13; 8:45 am]

BILLING CODE 6820-AR-M